DEPARTMENT OF ENERGY

Federal Energy Regulatory Commission

Combined Notice of Filings #2

Take notice that the Commission received the following electric rate filings:

Docket Numbers: ER12-2317-001.

Applicants: New York Independent System Operator, Inc.

Description: NYISO compliance filing re: NYPA's amended annual transmission revenue rqrmnt to be effective 8/1/2012.

Filed Date: 11/4/13.

Accession Number: 20131104-5043.

Comments Due: 5 p.m. ET 11/25/13.

Docket Numbers: ER13-2298-001.

Applicants: Midcontinent Independent System Operator, Inc.

Description: 11-01-13 Module E-1 LRR Compliance to be effective 10/30/2013.

Filed Date: 11/4/13.

Accession Number: 20131104-5053.

Comments Due: 5 p.m. ET 11/25/13.

Docket Numbers: ER14-300-000.

Applicants: Kansas City Power & Light Company.

Description: Rate Schedule 138 Filing to be effective 1/1/2014.

Filed Date: 11/4/13.

Accession Number: 20131104-5002.

Comments Due: 5 p.m. ET 11/25/13.

Docket Numbers: ER14-301-000.

Applicants: KCP&L Greater Missouri Operations Company.

Description: Rates Schedule 135 Concurrence to be effective 11/1/2013. [Transmittal letter requesting 1/1/2014 effective date.]

Filed Date: 11/4/13.

Accession Number: 20131104-5004.

Comments Due: 5 p.m. ET 11/25/13.

Docket Numbers: ER14-301-001.

Applicants: KCP&L Greater Missouri Operations Company.

Description: KCP&L Greater Missouri Operations Company submits GMO Supplemental RS 135 Concurrence Filing to be effective 1/1/2014.

Filed Date: 11/4/13.

Accession Number: 20131104-5108.

Comments Due: 5 p.m. ET 11/25/13.

Docket Numbers: ER14-302-000.

Applicants: PJM Interconnection, L.L.C.

Description: Queue Position V4-024; Original Service Agreement No. 3635 to be effective 10/3/2013.

Filed Date: 11/4/13.

Accession Number: 20131104-5062.

Comments Due: 5 p.m. ET 11/25/13.

Docket Numbers: ER14-303-000.

Applicants: Golden Spread Electric Cooperative, Inc.

Description: Exhibit A through D Amendments to be effective 1/1/2014.

Filed Date: 11/4/13.

Accession Number: 20131104-5064.

Comments Due: 5 p.m. ET 11/25/13.

Docket Numbers: ER14-304-000.

Applicants: PJM Interconnection, L.L.C.

Description: Queue Position V4-041; Original Service Agreement No. 3651 to be effective 10/3/2013.

Filed Date: 11/4/13.

Accession Number: 20131104-5067.

Comments Due: 5 p.m. ET 11/25/13.

Docket Numbers: ER14-305-000.

Applicants: PJM Interconnection, L.L.C.

Description: PJM Interconnection, L.L.C. submits Queue Position V4-042; Original Service Agreement No. 3652 to be effective 10/3/2013.

Filed Date: 11/4/13.

Accession Number: 20131104-5068.

Comments Due: 5 p.m. ET 11/25/13.

Docket Numbers: ER14-306-000.

Applicants: Fale-Safe, Inc., Portland General Electric Company.

Description: Portland General Electric Company submits Notice of Cancellation and pro forma tariff sheets of Market Based Rate Schedule No. 1 on behalf of Fale-Safe, Inc.

Filed Date: 11/1/13.

Accession Number: 20131101-5245.

Comments Due: 5 p.m. ET 11/22/13.

Docket Numbers: ER14-307-000.

Applicants: Alabama Power Company.

Description: Alabama Power Company submits tariff filing per 35.13(a)(2)(iii: Vogtle 3 & 4 LGIA Filing to be effective 10/28/2013.

Filed Date: 11/4/13.

Accession Number: 20131104-5101.

Comments Due: 5 p.m. ET 11/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2013.
Nathaniel J. Davis, Sr.,
Deputy Secretary.

[FR Doc. 2013-27061 Filed 11-12-13; 8:45 am]

BILLING CODE 6717-01-P